NATIONAL TRANSPORTATION SAFETY BOARD

Sunshine Act Meetings

TIME AND DATE: 9:30 a.m. EDT, Wednesday, February 21, 2024.

PLACE: Virtual.

STATUS: The one item may be viewed by the public through webcast only.

MATTERS TO BE CONSIDERED:

70760 Highway Investigative Report—Collapse of the Fern Hollow Bridge, Pittsburgh, Pennsylvania, January 28, 2022.

CONTACT PERSON FOR MORE INFORMATION: Candi Bing at (202) 590-8384 or by email at bingc@ntsb.gov.

Media Information Contact: Sarah Sulick by email at sarah.sulick@ntsb.gov or at (202) 314-6100.

This meeting will take place virtually. The public may view it through a live or archived webcast by accessing a link under “Upcoming Events” on the NTSB home page at www.ntsb.gov.

Schedule updates, including weather-related cancellations, are also available at www.ntsb.gov.

The National Transportation Safety Board is holding this meeting under the Government in the Sunshine Act, 5 U.S.C. 552(b).

Dated: February 1, 2024.
Candi R. Bing,
Federal Register Liaison Officer.

[FR Doc. 2024-02411 Filed 2-2-24; 11:15 am]

BILLING CODE 7533-01-P